DEPARTMENT OF COMMERCE

International Trade Administration

[A-549-812]

Notice of Final Results of Antidumping Duty Administrative Review: Furfuryl Alcohol from Thailand

AGENCY: Import Administration, International Trade Administration, Department of Commerce.

SUMMARY: On August 2, 2007, the Department of Commerce published the preliminary results of the administrative review of the antidumping duty order on furfuryl alcohol from Thailand. The period of review is July 1, 2005, through May 3, 2006. The final results do not differ from the preliminary results of this review, in which we found that sales of the subject merchandise have not been made below normal value.

EFFECTIVE DATE: October 12, 2007.

FOR FURTHER INFORMATION CONTACT: Damian Felton or Brandon Farlander, AD/CVD Operations, Office 1, Import Administration, International Trade Administration, U.S. Department of Commerce, 14th Street and Constitution Avenue, NW, Washington, DC 20230; telephone: (202) 482-0133 and (202) 482-0182, respectively.

SUPPLEMENTARY INFORMATION:

Background

On July 25, 1995, the Department published an antidumping duty order on furfuryl alcohol from Thailand. See Furfuryl Alcohol from Thailand: Notice of Amended Final Antidumping Duty Determination and Order, 60 FR 38035 (July 25, 1995). On August 30, 2006, the Department published a notice of initiation for this administrative review. See Notice of Initiation of Antidumping and Countervailing Duty Administrative Reviews, 71 FR 51573 (August 30, 2006). On August 2, 2007, the Department published in the Federal Register its preliminary results of the administrative review of this order. See Furfuryl Alcohol from Thailand; Preliminary Results of 2005-2006 Antidumping Duty Administrative Review, 72 FR 42390 (August 2, 2007) (“Preliminary Results”). In the Preliminary Results, the Department invited interested parties to submit briefs and request a hearing. No briefs were received and the Department did not conduct a hearing because none was requested.

Scope of the Order

The merchandise covered by this order is furfuryl alcohol (C4H3OCH2OH). Furfuryl alcohol is a primary alcohol, and is colorless or pale yellow in appearance. It is used in the manufacture of resins and as a wetting agent and solvent for coating resins, nitrocellulose, cellulose acetate, and other soluble dyes.

The product subject to this order is classifiable under subheading 2932.13.00 of the Harmonized Tariff Schedule of the United States (HTSUS). Although the HTSUS subheading is provided for convenience and customs purposes, our written description of the scope of this proceeding is dispositive.

Period of Review

The period of review (“POR”) is July 1, 2005, through May 3, 2006.¹

¹ On August 30, 2006, the Department published a notice of initiation for this administrative review covering the period July 1, 2005, through June 30, 2006. See Notice of Initiation of Antidumping and Countervailing Duty Administrative Reviews, 71 FR 51573 (August 30, 2006). However, following the initiation, the Department has revoked this order effective May 4, 2006. See Furfuryl Alcohol from Thailand; Final Results of the Second Sunset Review of the Antidumping Duty Order and Revocation of the Order, 72 FR 9729 (March 5, 2007). Therefore, the revised POR is now July 1, 2005 through May 3, 2006.

Final Results of Review

As noted above, the Department received no comments concerning the Preliminary Results. Consistent with the Preliminary Results, we find that a de minimis (i.e., less than 0.50 percent) dumping margin exists for Indorama Chemicals (Thailand) Ltd. during the POR. Because no party submitted comments on the Preliminary Results and the Department has not made any changes to the Preliminary Results, we have not prepared a Decision Memorandum for these final results. For further details of our findings, see the Preliminary Results.

Exporter/manufacturer | Weighted-average margin percentage
Indorama Chemicals (Thailand) Ltd. | 0.39*
*This is a de minimis rate.

Assessment Rates

The Department has determined, and U.S. Customs and Border Protection (“CBP”) shall assess, antidumping duties on all appropriate entries covered by this review. The Department intends to issue assessment instructions to CBP 15 days after the publication date of these final results. Because the respondent did not report the entered value of its U.S. sales, pursuant to 19 CFR 351.212(b)(1), we have calculated importer-specific per-unit duty assessment rates by aggregating the total amount of antidumping duties calculated for the examined sales and dividing this amount by the total quantity of those sales. To determine whether the duty assessment rates are de minimis, in accordance with the requirement set forth in 19 CFR 351.106(c)(2), we calculated importer (or customer)-specific ad valorem ratios based on the estimated entered value. Where an importer (or customer)-specific ad valorem rate is zero or de minimis, we will instruct CBP to liquidate appropriate entries without regard to antidumping duties.

The Department clarified its “automatic assessment” regulation on May 6, 2003 (68 FR 23954). This clarification will apply to entries of subject merchandise during the period of review produced by reviewed companies for which these companies did not know their merchandise was destined for the United States. In such instances, we will instruct CBP to liquidate unreviewed entries at the all-others rate if there is no rate for the intermediate company(ies) involved in the transaction. For a full discussion of this clarification, see Antidumping and Countervailing Duty Proceedings: Assessment of Antidumping Duties, 68 FR 23954 (May 6, 2003).

Cash Deposit Rates

On March 5, 2007, pursuant to section 751(d)(2) of the Tariff Act of 1930, as amended (“the Act”), and 19 CFR 351.222(i)(1)(ii), the Department revoked the antidumping duty order on furfuryl alcohol from Thailand (see Furfuryl Alcohol from Thailand; Final Results of the Second Sunset Review of the Antidumping Duty Order and Revocation of the Order, 72 FR 9729 (March 5, 2007)). The effective date of the revocation is May 4, 2006. As a result of this action, the Department does not intend to issue cash deposit instructions.

Notification to Importers

This notice serves as a final reminder to importers of their responsibility under 19 CFR 351.402(f)(2) to file a certificate regarding the reimbursement of antidumping duties prior to

liquidation of the relevant entries during this review period. Failure to comply with this requirement could result in the Secretary's presumption that reimbursement of antidumping duties occurred and the subsequent assessment of doubled antidumping duties.

Notification Regarding Administrative Protective Orders

This notice also serves as a reminder to parties subject to Administrative Protective Order (“APO”) of their responsibility concerning the return or destruction of proprietary information disclosed under APO in accordance with 19 CFR 351.305. Timely written notification of the return/destruction of APO materials or conversion to judicial protective order is hereby requested. Failure to comply with the regulations and terms of an APO is a violation which is subject to sanctions.

We are issuing and publishing these results and this notice in accordance with sections 751(a)(1) and 777(i)(1) of the Act.

Dated: October 14, 2007.
David M. Spooner,
Assistant Secretary for Import Administration.

[FR Doc. E7-20156 Filed 10-11-07; 8:45 am]

BILLING CODE 3510-DS-S